DEPARTMENT OF HEALTH AND HUMAN SERVICES

Administration for Community Living

Agency Information Collection Activities; Proposed Collection; Comment Request; The National Adult Maltreatment Reporting System; OMB #0985-0054

AGENCY: Administration for Community Living, HHS.

ACTION: Notice.

SUMMARY: The Administration for Community Living (ACL) is announcing an opportunity for the public to comment on the proposed collection of information listed above. Under the Paperwork Reduction Act of 1995 (the PRA), Federal agencies are required to publish a notice in the Federal Register concerning each proposed collection of information, including each proposed extension of an existing collection of information, and to allow 60 days for public comment in response to the notice. This notice solicits comments on the proposed revision of information collection requirements for the National Maltreatment Reporting System (NAMRS) OMB Control Number 0985-0054.

DATES: Comments on the collection of information must be submitted electronically by 11:59 p.m. (EST) or postmarked by July 22, 2022.

ADDRESSES: Submit electronic comments on the collection of information to Stephanie Whittier Eliason, Administration for Community Living, Washington, DC 20201, at Stephanie.WhittierEliason@acl.hhs.gov. Submit written comments on the collection of information to Administration for Community Living, Washington, DC 20201, Attention: to Stephanie Whittier Eliason.

FOR FURTHER INFORMATION CONTACT: Stephanie Whittier Eliason, Administration for Community Living, Washington, DC 20201, at 202.795.7467 and Stephanie.WhittierEliason@acl.hhs.gov.

SUPPLEMENTARY INFORMATION: Under the PRA, Federal agencies must obtain approval from the Office of Management and Budget (OMB) for each collection of information they conduct or sponsor. “Collection of information” includes agency requests or requirements that members of the public submit reports, keep records, or provide information to a third party. The PRA requires Federal agencies to provide a 60-day notice in the Federal Register concerning each proposed collection of information, including each proposed extension of an existing collection of information, before submitting the collection to OMB for approval. To comply with this requirement, ACL is publishing a notice of the proposed collection of information set forth in this document.

With respect to the following collection of information, ACL invites comments on our burden estimates or any other aspect of this collection of information, including:

(1) Whether the proposed collection of information is necessary for the proper performance of ACL's functions, including whether the information will have practical utility;

(2) the accuracy of ACL's estimate of the burden of the proposed collection of information, including the validity of the methodology and assumptions used to determine burden estimates;

(3) ways to enhance the quality, utility, and clarity of the information to be collected; and

(4) ways to minimize the burden of the collection of information on respondents, including through the use of automated collection techniques when appropriate, and other forms of information technology.

This data collection effort is in response to the Elder Justice Act of 2009, which amended Title XX of the Social Security Act [42.U.S.C. 13976 et seq.]. These provisions require that the Secretary of HHS “collects and disseminates data annually relating to the abuse, exploitation, and neglect of elders in coordination with the Department of Justice” [Sec. 2041(a)(1)(B)], and “conducts research related to the provision of adult protective services” [Sec. 2041(a)(1)(D)]. Furthermore, development of a national adult protective services (APS) system based upon standardized data collection and a core set of service provision standards and best practices was recommended by the Elder Justice Coordinating Council to increase federal involvement in addressing elder abuse, neglect and exploitation. Since federal fiscal year 2016, NAMRS has collected descriptive and summary or de-identified case-level data on APS investigations. The purpose of NAMRS is to better understand adult maltreatment as investigated by APS programs. Respondents are state APS agencies and APS agencies in the District of Columbia, Puerto Rico, Guam, Northern Mariana Islands, Virgin Islands, and American Samoa (states, hereafter). Two agencies provide No personally identifiable client or perpetrator information is collected. Data submission is voluntary.

NAMRS consists of three components:

(1) Agency Component: Descriptive data on APS program agency information and key program policies; and

(2) Case Component: De-identified case-level data on key aspects of APS investigations (e.g., clients, maltreatment types, perpetrators); or

(3) Key Indicator: Summary level data on a smaller set of core items about APS investigations States unable to submit a case-level file through the Case Component submit.

ACL provides technical assistance to states to assist in the preparation of their data submissions and reviews and approves submissions. NAMRS was granted a three-year extension through March of 2023. To prepare for the 2023 OMB reauthorization, ACL routinely collects potential changes to NAMRS and held 11 public listening sessions during the summer of 2021 to obtain feedback from stakeholders on potential improvements to NAMRS.

ACL then conducted four focus groups with state APS agencies to discuss potential changes to NAMRS identified in the 11 listening sessions. With input of the technical assistance team, ACL determined the proposed revisions to the information collection.

In summary, the proposed revisions clarify definitions and instructions throughout, add new policy questions to the Agency Component to assist data users with interpreting data, add new code values to various Case Component and Key Indicator data elements in response to stakeholder input, and add one new data element to the Case Component. The annual recurring burden for states will increase slightly, and there will be one-time burden to make changes in APS program information systems. ACL intends to make state-specific NAMRS data available to researchers and other potential users through a request and approval process. The process will include safeguards for APS program confidentiality concerns.

The proposed data collection tools may be reviewed on the ACL website at https://www.acl.gov/about-acl/public-input.

Estimated Program Burden

The proposed revisions add only one new data element, make minor additions to the code values for a number of Key Indicator and Case Component data elements, and include a number of new policy questions in the Agency Component. For the new data element and additional code values, state APS programs may choose to modify their information management systems to collect the data and extract it for reporting. This will be a one-time burden. In addition, states will have an ongoing annual burden of preparing and submitting the data collection.

Since initial establishment of the data collection, NAMRS reporting has become more efficient through state familiarity with the system and improvements such as a “copy forward” feature for Case Mapping and Agency Component items. For the new policy questions in the revision, ACL assumes it will pre-load responses for many of the questions for many of the states, requiring only state validation of the accuracy of the information and a very minimal increase in ongoing burden.

Based on current submission and anticipated changes, ACL estimates 59 APS programs will respond every year to the Agency Component, with 50 states providing Case Component data and 9 states providing Key Indicator data. (Note: In three states,

Based on the previous estimates of annual submission burden from data gathered during the pilot project, the recurring annual burden to submit the data consists of:

• Hours by administrative staff to respond to the Agency Component, and

• Hours by data staff and administrative staff to respond to the Key Indicator Component, or

• Hours by data staff and administrative to respond and jointly complete the Case Component.

The one-time burden for the revisions will take:

• Hours for administrative to review or add additional information for the new policy questions.

• Hours for programming for the new Key Indicator and Case Component code values.

• Hours for programming for the new Case Component data element.

Recurring and one-time burden estimates are shown in the following table.

Respondent/data collection activity | Number of respondents | Responses per respondent | Hours per response | Annual burden estimate
Agency One-Time | 59 | 1 | 6.20 | 365.80
Key Indicator One-Time | 9 | 1 | 30.00 | 270.00
Case Component One-Time | 50 | 1 | 83 | 4,150.00
One-Time Subtotal |  |  | 119.20 | 4,785.80
Agency Component | 59 | 1 | 4 | 236.00
Key Indicators Component | 9 | 1 | 20 | 180.00
Case Component | 50 | 1 | 100 | 5,000.00
Recurring Sub-total |  |  | 124 | 5,416.00

Dated: May 17, 2022.
Alison Barkoff,
Acting Administrator and Assistant Secretary for Aging.

[FR Doc. 2022-10987 Filed 5-20-22; 8:45 am]

BILLING CODE 4154-01-P